DEPARTMENT OF HEALTH AND HUMAN SERVICES

Administration for Children and Families

Statement of Organization, Functions and Delegations of Authority

Notice is hereby given that I delegate to the Commissioner, Administration on Developmental Disabilities, with authority to further redelegate, the following authority vested in the Assistant Secretary for Children and Families by the Secretary under Title II, Subtitle D, Parts 2 and 5 of the Help America Vote Act of 2002, Pub. L. 107-252, 116 Stat 1666, 1698-1699, 1702-1703 (2002), 42 U.S.C. 15421-15425, 15461-15462.

(A) Authority to administer the Title II, Subtitle D, Parts 2 and 5 of the Help America Vote Act of 2002, Pub. L. 107-252, 116 Stat 1666, 1698-1699, 1702-1703 (2002), 42 U.S.C. 15421-15425, 15461-15462, and as amended, hereafter.

(B) Effect on Existing Delegations.

None

(A) Limitations.

1. This delegation shall be exercised under the Department's existing delegation and policy on regulations.

2. This delegation shall be exercised under financial and administrative requirements applicable to all Administration for Children and Families authorities.

3. I hereby affirm and ratify any actions taken by the Commissioner, Administration on Developmental Disabilities, or any other Administration on Developmental Disabilities officials, which, in effect, involved the exercise of this authority prior to the effective date of this delegation.

4. Any redelegation shall be in writing and prompt notifications must be provided to all affected managers, supervisors, and other personnel.

(D) Effective Date.

This delegation is effective immediately.

Dated: April 2, 2004.
Wade F. Horn,
Assistant Secretary for Children and Families.

[FR Doc. 04-8335 Filed 4-12-04; 8:45 am]

BILLING CODE 4184-01-P